SECURITIES AND EXCHANGE COMMISSION

[Release No. IC-28037]

Notice of Applications for Deregistration Under Section 8(f) of the Investment Company Act of 1940

October 26, 2007.

The following is a notice of applications for deregistration under section 8(f) of the Investment Company Act of 1940 for the month of October, 2007. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on November 19, 2007, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

For Further Information Contact: Diane L. Titus at (202) 551-6810, SEC, Division of Investment Management, Office of Investment Company Regulation, 100 F Street, NE., Washington, DC 20549-4041.

Dover Regional Financial Shares

[File No. 811-4744]

Summary: Applicant, a closed-end investment company, seeks an order declaring that it has ceased to be an investment company. On December 30, 1994, applicant made a liquidating distribution to its shareholders, based on net asset value. Expenses of $33,885 incurred in connection with the liquidation were paid by applicant.

Filing Dates: The application was filed on September 18, 2007, and amended on October 23, 2007.

Applicant's Address: 11 Hanover Sq., 12th Floor, New York, NY 10005.

Eaton Vance Global Enhanced Equity Income Fund

[File No. 811-21711]

Eaton Vance Tax-Managed Buy-Write Research Fund

[File No. 811-21821]

Summary: Each applicant, a closed-end investment company, seeks an order declaring that it has ceased to be an investment company. Applicants have never made a public offering of their securities and do not propose to make a public offering or engage in business of any kind.

Filing Date: The applications were filed on October 1, 2007.

Applicants' Address: The Eaton Vance Building, 255 State St., Boston, MA 02109.

Advisory Hedged Opportunity Fund

[File No. 811-21288]

Summary: Applicant, a closed-end investment company, seeks an order declaring that it has ceased to be an investment company. On November 1, 2005, applicant made a final liquidating distribution to its shareholders, based on net asset value. Expenses of $395,000 incurred in connection with the liquidation were paid by RiverSource Investments, LLC, applicant's investment adviser.

Filing Date: The application was filed on September 25, 2007.

Applicant's Address: 50210 Ameriprise Financial Center, Minneapolis, MN 55474.

BlackRock Europe Fund, Inc.

[File No. 811-6042]

Summary: Applicant, a closed-end investment company, seeks an order declaring that it has ceased to be an investment company. On October 16, 2006, applicant transferred its assets to BlackRock EuroFund (formerly, Merrill Lynch EuroFund), based on net asset value. Expenses of approximately $249,051 incurred in connection with the reorganization were paid by applicant's investment adviser, Merrill Lynch Investment Managers, L.P. or its affiliates.

Filing Dates: The application was filed on July 13, 2007, and amended on October 23, 2007.

Applicant's Address: 800 Scudders Mill Rd., Plainsboro, NJ 08536.

Merrill Lynch Strategy Series, Inc.

[File No. 811-9617]

Summary: Applicant seeks an order declaring that it has ceased to be an investment company. On August 28, 2006, applicant transferred its assets to corresponding series of Merrill Lynch Global Allocation Fund, Inc. (now BlackRock Global Allocation Fund, Inc.) and Merrill Lynch Large Cap Series Funds, Inc. (now BlackRock Large Cap Series Funds, Inc.), based on net asset value. Applicant incurred no expenses in connection with the reorganization.

Filing Dates: The application was filed on July 13, 2007, and amended on October 23, 2007.

Applicant's Address: 800 Scudders Mill Rd., Plainsboro, NJ 08536.

Merrill Lynch Inflation Protected Fund

[File No. 811-21473]

Master Inflation Protected Trust

[File No. 811-21518]

Summary: Each applicant seeks an order declaring that it has ceased to be an investment company. On October 16, 2006, each applicant transferred its assets to a corresponding series of BlackRock Funds, based on net asset value. Expenses of approximately $264,737 and $582, respectively, incurred in connection with the reorganizations were paid by the acquiring fund's investment adviser, BlackRock, Inc. or its affiliates.

Filing Dates: The applications were filed on July 13, 2007, and amended on October 23, 2007.

Applicants' Address: 800 Scudders Mill Rd., Plainsboro, NJ 08536.

Colonial New York Insured Municipal Fund

[File No. 811-9539]

Summary: Applicant, a closed-end investment company, seeks an order declaring that it has ceased to be an investment company. On June 14, 2005, applicant made a final liquidating distribution to its common shareholders, based on net asset value. Applicant distributed to its preferred shareholders an amount equal to the liquidation preference with respect to the preferred shares of beneficial interest, plus an amount equal to all accumulated but unpaid dividends. Expenses of $45,000 incurred in connection with the liquidation were paid by applicant.

Filing Dates: The application was filed on October 21, 2005, and amended on October 3, 2007.

Applicant's Address: One Financial Center, Boston, MA 02110.

SouthEast Tax Exempt Income Trust

[File No. 811-2960]

Summary: Applicant, a unit investment trust, seeks an order declaring that it has ceased to be an investment company. On August 15, 2006, applicant made a final liquidating distribution, based on net asset value. Applicant incurred no expenses in connection with the liquidation.

Filing Date: The application was filed on October 9, 2007.

Applicant's Address: 388 Greenwich St., New York, NY 10013.

Hutton Investment Trust

[File No. 811-3647]

Summary: Applicant, a unit investment trust, seeks an order declaring that it has ceased to be an investment company. On January 9, 2006, applicant made a final liquidating distribution, based on net asset value. Applicant incurred no expenses in connection with the liquidation.

Filing Date: The application was filed on October 9, 2007.

Applicant's Address: 388 Greenwich St., New York, NY 10013.

ThomasLloyd Funds

[File No. 811-9156]

Summary: Applicant seeks an order declaring that it has ceased to be an investment company. On September 28, 2007, applicant transferred its assets to the Catalyst OPTI-flex® Fund, a series of Catalyst Funds, based on net asset value. Expenses of $35,452 incurred in connection with the reorganization were paid by ThomasLloyd Global Asset Management (Americas) LLC, applicant's investment adviser.

Filing Date: The application was filed on October 11, 2007.

Applicant's Address: 427 Bedford Rd., Pleasantville, NY 10570.

Van Kampen World Portfolio Series Trust

[File No. 811-6220]

Summary: Applicant seeks an order declaring that it has ceased to be an investment company. On April 11, 2001, applicant made a liquidating distribution to its shareholders, based on net asset value. Expenses of the $44,000 incurred in connection with the liquidation were paid by applicant.

Filing Date: The application was filed on October 12, 2007.

Applicant's Address: 522 Fifth Ave., New York, NY 10036.

Alpha Hedge Fund, Inc.

[File No. 811-21577]

Summary: Applicant seeks an order declaring that it has ceased to be an investment company. On October 15, 2007, applicant made a liquidating distribution to its shareholders, based on net asset value. Expenses of less than $5,000 incurred in connection with the liquidation were paid by Adams Asset Advisors, LLC, applicant's investment adviser.

Filing Date: The application was filed on October 16, 2007.

Applicant's Address: 8150 N. Central Expressway #101, Dallas, TX 75206.

Baron Capital Funds Trust

[File No. 811-8505]

Summary: Applicant seeks an order declaring that it has ceased to be an investment company. On June 5, 2007, Applicant made distributions of its assets to its shareholders in connection with its merger with LVIP Baron Growth Opportunities Fund, a series of Lincoln Variable Insurance Products Trust. Expenses of approximately $ 475,913 incurred in connection with the merger were paid by applicant's adviser, BAMCO, Inc., and the acquiring fund's sponsor, The Lincoln National Life Insurance Company, or one of its affiliates.

Filing Dates: The application was filed on July 12, 2007, and amended on October 19, 2007 and October 24, 2007.

Applicant's Address: 767 Fifth Avenue, 49th Floor, New York, NY 10153.

Jefferson Pilot Variable Fund, Inc.

[File No. 811-4161]

Summary: Applicant seeks an order declaring that it has ceased to be an investment company. On April 27, 2007, Applicant made distributions of its assets to its shareholders in connection with the merger of its portfolios with certain series (“Acquiring Portfolios”) of the Lincoln Variable Insurance Products Trust. Expenses of approximately $1,090,882 incurred in connection with the merger were paid by Lincoln National Life Insurance Company, Janus Capital Management LLC, an investment adviser of one of the Acquiring Portfolios, and some of the Acquiring Portfolios (i.e., LVIP Growth and Income Fund, the LVIP Bond Fund, the LVIP S&P 500 Fund, the LVIP Delaware Managed Fund, and the LVIP Small-Cap Index Fund).

Filing Dates: The application was filed on July 26, 2007, and amended on October 19, 2007.

Applicant's Address: One Granite Place, Concord, NH 03301.

PFL Variable Life Account A

[File No. 811-9579]

Summary: Applicant, a unit investment trust, seeks an order declaring that it has ceased to be an investment company. On May 1, 2006, applicant made a liquidating distribution to its sole shareholder, based on net asset value. Applicant incurred no expenses in connection with the liquidation.

Filing Dates: The application was filed on December 22, 2006, and amended on September 27, 2007.

Applicant's Address: 4333 Edgewood Road, NE., Cedar Rapids, Iowa 52499.

For the Commission, by the Division of Investment Management, pursuant to delegated authority.
Nancy M. Morris,
Secretary.

[FR Doc. E7-21485 Filed 10-31-07; 8:45 am]

BILLING CODE 8011-01-P